DEPARTMENT OF THE INTERIOR

National Park Service

Finding of No Significant Impact (FONSI) for the Environmental Assessment for the Glen Echo Park North Arcade Rehabilitation

AGENCY: National Park Service, Interior.

ACTION: Availability of the FONSI and decision record for the proposal to replace the existing deteriorated North Arcade structure and damaged portions of the adjacent arcade structure with a new North Arcade structure in Glen Echo Park.

SUMMARY: Pursuant to Council on Environmental Quality regulations and National Park Service policy, the and National Park Service (NPS) announces the availability of the FONSI and decision record for the proposed replacement of the existing deteriorated North Arcade structure and damaged portions of the adjacent arcade structure with a new North Arcade structure in Glen Echo Park, a unit of the George Washington Memorial Parkway. The FONSI and decision record identifies Alternative B as the preferred Alternative in the “Environmental Assessment for the Glen Echo Park North Arcade Rehabilitation.” Under this alternative, the existing North Arcade structure located in Glen Echo Park, Glen Echo, Maryland, would be demolished and a new structure built in the same location. Although the NPS determined that this undertaking will have an “Adverse Effect” upon the North Arcade structure itself, the action overall will have “No Adverse Effect” on the qualities that qualify the Glen Echo Park Historic District for listing on the National Register of Historic Places. In accordance to the Memorandum of Agreement with the Maryland State Historic Preservation Officer signed July 17, 2001, the NPS will mitigate the demolition of historic structures and will design the new structures in a manner complementing the original and respecting the surrounding Historic District.

DATES: The Environmental Assessment, upon which the FONSI was made, was available for public comment from July 2-31, 2001 and no comments were received.

ADDRESSES: The FONSI and decision record will be available for public inspection Monday through Friday, 8:00 a.m. through 4:00 p.m. at George Washington Memorial Parkway Headquarters, Turkey Run Park, McLean, VA.

SUPPLEMENTARY INFORMATION: The FONSI and decision record completes the Environmental Assessment process.

FOR FURTHER INFORMATION CONTACT: Ms. Ann Brazinski (703) 289-2541.

Rich Foster,
Acting Superintendent, George Washington Memorial Parkway.

[FR Doc. 02-7378 Filed 3-27-02; 8:45 am]

BILLING CODE 4310-70-P